SECURITIES AND EXCHANGE COMMISSION

[Release No. 34-104787; File No. SR-NYSEARCA-2026-11]

Self-Regulatory Organizations; NYSE Arca, Inc.; Notice of Filing and Immediate Effectiveness of a Proposed Rule Change To Modify the NYSE Arca Options Fee Schedule To Eliminate a Pricing Incentive Relating to Options on NYSE Arca Equities-Listed Digital Asset Exchange Trading Funds

February 9, 2026.

Pursuant to Section 19(b)(1) ¹ of the Securities Exchange Act of 1934 (“Act”),² and Rule 19b-4 thereunder,³ notice is hereby given that on January 30, 2026, NYSE Arca, Inc. (“NYSE Arca” or the “Exchange”) filed with the Securities and Exchange Commission (the “Commission”) the proposed rule change as described in Items I and II below, which Items have been prepared by the self-regulatory organization. The Commission is publishing this notice to solicit comments on the proposed rule change from interested persons.

¹ 15 U.S.C. 78s(b)(1).

² 15 U.S.C. 78a.

³ 17 CFR 240.19b-4.

I. Self-Regulatory Organization's Statement of the Terms of Substance of the Proposed Rule Change

The Exchange proposes to modify the NYSE Arca Options Fee Schedule (“Fee Schedule”) to eliminate a pricing incentive related to options on digital asset ETFs. The proposed rule change is available on the Exchange's website at www.nyse.com and at the principal office of the Exchange.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and the Statutory Basis for, the Proposed Rule Change

1. Purpose

The Exchange proposes to amend the Fee Schedule to eliminate a pricing incentive designed to encourage trading in options on NYSE Arca Equities-listed digital asset ETFs (the “Digital Asset Incentive”).⁴ Currently, the Digital Asset Incentive provides for an additional discount of $0.05 per contract on electronic take liquidity, manual, and electronic complex-to-complex executions or an additional credit of $0.05 per contract on electronic post liquidity executions, applicable to executions in options on NYSE Arca Equities-listed digital asset ETFs (excluding QCC transactions). The Digital Asset Incentive does not apply to QCC transactions (which are subject to separate fees and credits), and executions in options on NYSE Arca Equities-listed digital asset ETFs are not included in the daily fee cap on strategy executions (i.e., the Limit of Fee on Options Strategy Executions) or calculations for or rebates available through the Manual Billable Rebate Program.⁵

⁴ See Fee Schedule, Endnote 12.

⁵ Manual executions of options on digital asset ETFs are subject to the Firm and Broker Dealer Monthly Fee Cap, including the assessment of the incremental service fee of $0.01 per contract once that Cap has been reached. See Fee Schedule, FIRM AND BROKER DEALER MONTHLY FEE CAP.

The Exchange adopted the Digital Asset Incentive in an effort to incentivize trading in, at the time, newly available options on digital asset ETFs (as well as in other options series in digital asset ETFs that might be listed on NYSE Arca Equities in the future). Because the Digital Asset Incentive has been underutilized and thus has not achieved its intended effect, the Exchange now proposes to eliminate it from the Fee Schedule. To effect this change, the Exchange proposes to delete Endnote 12, as well as cross-references to Endnote 12 throughout the Fee Schedule.⁶

⁶ See proposed Fee Schedule, Endnote 12; TRANSACTION FEE FOR MANUAL EXECUTIONS—PER CONTRACT; TRANSACTION FEE FOR ELECTRONIC EXECUTIONS—PER CONTRACT; ELECTRONIC COMPLEX ORDER EXECUTIONS, TRANSACTION FEE—PER CONTRACT; LIMIT OF FEES ON OPTIONS STRATEGY EXECUTIONS and FLOOR BROKER FIXED COST PREPAYMENT INCENTIVE PROGRAM (the “FB Prepay Program”)

2. Statutory Basis

The Exchange believes that the proposed rule change is consistent with Section 6(b) of the Act,⁷ in general, and furthers the objectives of Sections 6(b)(4) and (5) of the Act,⁸ in particular, because it provides for the equitable allocation of reasonable dues, fees, and other charges among its members, issuers and other persons using its facilities and does not unfairly discriminate between customers, issuers, brokers or dealers.

⁷ 15 U.S.C. 78f(b).

⁸ 15 U.S.C. 78f(b)(4) and (5).

The Exchange believes that the proposed rule change to eliminate the Digital Asset Incentive is reasonable because this program has not effectively encouraged OTP Holders to increase trading in options on NYSE Arca Equities-listed digital asset ETFs, and eliminating an underutilized incentive program would simplify the Fee Schedule. The Exchange also believes that eliminating the Digital Asset Incentive from the Fee Schedule is equitable and not unfairly discriminatory because the program would be eliminated in its entirety and would no longer be available to any OTP Holders.

B. Self-Regulatory Organization's Statement on Burden on Competition

In accordance with Section 6(b)(8) of the Act, the Exchange does not believe that the proposed rule change would impose any burden on competition that is not necessary or appropriate in furtherance of the purposes of the Act. Instead, the Exchange believes that the proposed elimination of the Digital Asset Incentive would not affect intramarket or intermarket competition because, as noted above, the program has not effectively encouraged increased trading in options on NYSE Arca Equities-listed digital asset ETFs, and its elimination would impact all OTP Holders equally. The Exchange operates in a highly competitive market in which market participants can readily favor one of the 18 competing option exchanges. In such an environment, the Exchange must continually adjust its fees and rebates to remain competitive with other exchanges and to attract order flow to the Exchange. The Exchange believes that the proposed rule change reflects this competitive environment because it removes an underutilized program that did not achieve its intended purpose.

C. Self-Regulatory Organization's Statement on Comments on the Proposed Rule Change Received From Members, Participants, or Others

No written comments were solicited or received with respect to the proposed rule change.

III. Date of Effectiveness of the Proposed Rule Change and Timing for Commission Action

The foregoing rule change is effective upon filing pursuant to Section 19(b)(3)(A) ⁹ of the Act and subparagraph (f)(2) of Rule 19b-4 ¹⁰ thereunder, because it establishes a due, fee, or other charge imposed by the Exchange.

⁹ 15 U.S.C. 78s(b)(3)(A).

¹⁰ 17 CFR 240.19b-4(f)(2).

At any time within 60 days of the filing of such proposed rule change, the Commission summarily may temporarily suspend such rule change if it appears to the Commission that such action is necessary or appropriate in the public interest, for the protection of investors, or otherwise in furtherance of the purposes of the Act. If the Commission takes such action, the Commission shall institute proceedings under Section 19(b)(2)(B) ¹¹ of the Act to determine whether the proposed rule change should be approved or disapproved.

¹¹ 15 U.S.C. 78s(b)(2)(B).

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-NYSEARCA-2026-11 on the subject line.

Paper Comments

• Send paper comments in triplicate to Secretary, Securities and Exchange Commission, 100 F Street NE, Washington, DC 20549-1090.

All submissions should refer to file number SR-NYSEARCA-2026-11. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-NYSEARCA-2026-11 and should be submitted on or before March 5, 2026.

For the Commission, by the Division of Trading and Markets, pursuant to delegated authority.¹²
¹² 17 CFR 200.30-3(a)(12).
Sherry R. Haywood,
Assistant Secretary.

[FR Doc. 2026-02802 Filed 2-11-26; 8:45 am]

BILLING CODE 8011-01-P